DEPARTMENT OF LABOR

Employment And Training Administration

[TA-W-53,709]

Alfmeier Corporation Seating Comfort Systems, a Subsidiary of Alfmeier Prazision, Dandridge, Tennessee; Notice of Revised Determination on Reconsideration

By letter postmarked January 6, 2004, a petitioner requested administrative reconsideration regarding the Department's Negative Determination Regarding Eligibility to Apply for Worker Adjustment Assistance, applicable to the workers of the subject firm.

The initial investigation resulted in a negative determination issued on December 12, 2003, based on the finding that imports of lumbar seating prototypes did not contribute importantly to worker separations at the subject firm. The denial notice was published in the Federal Register on January 16, 2004 (69 FR 2622).

To support the request for reconsideration, the petitioner supplied additional information to supplement that which was gathered during the initial investigation.

Upon further review and contact with the company official, it was revealed that the company shifted its production of lumbar seating prototypes to Germany with the intent to import lumbar seating prototypes back into the United States. The investigation further revealed that employment declined at the subject firm.

In accordance with section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of Section 246 of the Trade Act must be met. The Department has determined in this case that the requirements of section 246 have been met.

At least three workers at the firm are age 50 or over and possess skills that are not easily transferable. Competitive conditions within the industry are adverse.

Conclusion

After careful review of the additional facts obtained on reconsideration, I conclude that likely increase in imports of articles like or directly competitive with those produced at Alfmeier Corporation, Seating Comfort Systems, a subsidiary of Alfmeier Prazision, Dandridge, Tennessee, contributed importantly to the declines in sales or production and to the total or partial separation of workers at the subject firm. In accordance with the provisions of the Act, I make the following certification:

All workers of Alfmeier Corporation, Seating Comfort Systems, a subsidiary of Alfmeier Prazision, Dandridge, Tennessee, who became totally or partially separated from employment on or after November 19, 2002, through two years from the date of this certification, are eligible to apply for adjustment assistance under section 223 of the Trade Act of 1974, and are eligible to apply for alternative trade adjustment assistance under section 246 of the Trade Act of 1974.

Signed in Washington, DC this 19th day of February, 2004.
Elliott S. Kushner,
Certifying Officer, Division of Trade Adjustment Assistance.

[FR Doc. E4-469 Filed 3-5-04; 8:45 am]

BILLING CODE 4510-13-P